ENVIRONMENTAL PROTECTION AGENCY

[FRL-6997-5]

Notice of Availability of National Management Measures To Control Nonpoint Source Pollution From Forestry and Request for Comments

AGENCY: Environmental Protection Agency (EPA).

ACTION: Notice of availability and request for comment.

SUMMARY: EPA has developed and is requesting comment on draft technical guidance for managing nonpoint source pollution from forestry. This guidance is intended to provide technical assistance to State program managers and others on the best available, economically achievable means of reducing nonpoint source pollution of surface and ground water from forestry. The guidance provides background information about nonpoint source pollution from forestry, including where it comes from and how it enters the Nation's waters. It discusses the broad concepts of assessing and addressing water quality problems on a watershed level, and it presents up-to-date technical information about how to reduce nonpoint source pollution from forestry.

Reviewers should note that the draft technical guidance is entirely consistent with the Guidance Specifying Management Measures for Sources of Nonpoint Pollution in Coastal Water (EPA 840-B-92-002), which EPA published in January 1993 under the authority of section 6217(g) of the Coastal Zone Act Reauthorization Amendments of 1990 (CZARA). The draft document does not supplant or replace the requirements of the 1993 document. It enhances the technical information contained in the 1993 coastal guidance to include inland as well as coastal context and to provide updated technical information based on current understanding and implementation of best management practices (BMP) controls. It does not set new or additional standards for either CZARA section 6217 or Clean Water Act section 319 programs.

EPA will consider comments on this draft guidance and will then issue final guidance.

DATES: Written comments should be addressed to the person listed directly below by September 25, 2001.

ADDRESSES: Comments should be sent to Chris Solloway, Assessment and Watershed Protection Division (4503-F), U.S. Environmental Protection Agency, 1200 Pennsylvania Avenue, NW., Washington, DC 20460. Non-US Postal Service comments should be sent to Chris Solloway, Assessment and Watershed Protection Division, U.S. Environmental Protection Agency, Room 200, 499 S. Capitol Street, SW., Washington, DC 20003. Faxes should be sent to (202) 260-7024.

The complete text of the draft guidance is available on EPA's Internet site on the Nonpoint Source Control Branch's homepage at <http://www.epa.gov/owow/nps>. Copies of the complete draft can also be obtained by request from Chris Solloway at the above address, by E-mail at <Solloway.Chris@epa.gov>, or by calling (202) 260-3008.

FOR FURTHER INFORMATION: Contact Chris Solloway at (202) 260-3008.

SUPPLEMENTARY INFORMATION:

I. Background

In 1993, under the authority of section 6217(g) of the Coastal Zone Act Reauthorization Amendments, EPA issued Guidance Specifying Management Measures for Sources of Nonpoint Pollution in Coastal Waters. That guidance document details management measures appropriate for the control of five categories of nonpoint sources of pollution in the coastal zone: Agriculture, forestry, urban areas, marinas and recreational boating, and hydromodification. The document also includes management measures for wetlands, riparian areas, and vegetated treatment systems because they are important to the abatement of nonpoint source pollution in coastal waters. States and territories were required to adopt measures “in conformity” with the coastal management measures guidance for their Coastal Nonpoint Pollution Control Programs.

State, territory, and tribal water quality assessments continue to identify nonpoint source pollution as a major cause of degradation in surveyed waters nationwide. In 1987 Congress enacted section 319 of the Clean Water Act to establish a national program to control nonpoint sources of water pollution. Under section 319, States, territories, and tribes address nonpoint source pollution by assessing the nonpoint source pollution problems within the State, territory, or tribal lands; identifying the sources of pollution; and implementing management programs to control the pollution. Section 319 also authorizes EPA to award grants to States, territories, and tribes to assist them in implementing management programs that EPA has approved. Program implementation includes nonregulatory and regulatory programs, technical assistance, financial assistance, education, training, technology transfer, and demonstration projects. In fiscal year 2000, Congress appropriated and EPA awarded $200 million for nonpoint source management program grants. EPA has awarded a total of $1 billion to States, territories, and Indian tribes since 1990.

The 1993 management measures guidance focused on conditions and examples of management measure implementation from the coastal zone. To date, technical guidance on the best available, economically achievable measures for controlling nonpoint sources with a national focus has not been released. The draft national management measures guidance for forestry is intended to partially address this gap. Although the practices detailed in the 1993 coastal guidance apply generally to inland areas, EPA has recognized the utility of developing and publishing technical guidance that explicitly addresses nonpoint source pollution on a nationwide basis. Moreover, additional information and examples from research and experience to date with implementation of the management measures are available to enrich the national guidance. These changes have helped to prompt the revision and expansion of the forestry chapter of the 1993 guidance.

II. Scope of the Draft Forestry Guidance—Sources of Nonpoint Source Pollution Addressed

The draft technical guidance continues to focus on the major sources of pollution from forestry identified for the 1993 coastal guidance by EPA in consultation with a number of other Federal agencies and other leading national experts, including several experts from the U.S. Forest Service. Specifically, the guidance identifies management measures for the following:

i. Preharvest planning;

ii. Streamside management areas;

iii. Road construction and reconstruction;

iv. Road management;

v. Timber harvesting;

vi. Site preparation and forest regeneration;

vii. Fire management;

viii. Revegetation of disturbed areas;

ix. Forest chemical management; and

x. Wetlands forest management.

III. Approach Used To Develop Guidance

The draft national management measures guidance is based in large part on the 1993 coastal guidance. The coastal guidance was developed using a workgroup approach to draw upon technical expertise within other Federal agencies as well as State water quality and coastal zone management agencies.

The 1993 text has been expanded to include information on the application and effectiveness of forestry BMPs from recent research, the cost of installing BMPs, watershed-scale and ecological impacts of forestry activities, technological advances that affect BMP use and installation, State BMP monitoring programs, logger education and certification programs, and BMP installation and use considerations for nonindustrial private forest landowners.

IV. Request for Comments

EPA is soliciting comments on the draft guidance on management measures to control nonpoint source pollution from forestry. The Agency is soliciting additional information and supporting data on the measures specified in this guidance and on additional measures that may be as effective or more effective in controlling nonpoint source pollution from forestry. EPA requests that commenters focus their comments on the technical soundness of the draft management measures guidance.

Diane C. Regas,
Acting Assistant Administrator for Water.

[FR Doc. 01-16121 Filed 6-26-01; 8:45 am]

BILLING CODE 6560-50-P